INTERNATIONAL TRADE COMMISSION

[USITC SE-12-021]

Government in the Sunshine Act Meeting Notice

AGENCY HOLDING THE MEETING: United States International Trade Commission.

TIME AND DATE: August 2, 2012 at 11:00 a.m.

PLACE: Room 101, 500 E Street SW., Washington, DC 20436, Telephone: (202) 205-2000.

STATUS: Open to the public.

Matters To Be Considered

1. Agendas for future meetings: none.

2. Minutes.

3. Ratification List.

4. Vote in Inv. Nos. 701-TA-442-443 and 731-TA-1095-1097 (Review) (Certain Lined Paper School Supplies from China, India, and Indonesia). The Commission is currently scheduled to transmit its determination and Commissioners' opinions to the Secretary of Commerce on or before August 14, 2012.

5. Outstanding action jackets: none.

In accordance with Commission policy, subject matter listed above, not disposed of at the scheduled meeting, may be carried over to the agenda of the following meeting.

By order of the Commission.
Issued: July 25, 2012.
William R. Bishop,
Hearings and Meetings Coordinator.

[FR Doc. 2012-18604 Filed 7-26-12; 11:15 am]

BILLING CODE 7020-02-P